NUCLEAR REGULATORY COMMISSION

[Docket No. 50-213-OLA and ASLBP No. 01-787-02-OLA]

Connecticut Yankee Atomic Power Company Haddam Neck Plant; Establishment of Atomic Safety and Licensing Board

Pursuant to delegation by the Commission dated December 29, 1972, published in the Federal Register, 37 Fed. Reg. 28,710 (1972), and Sections 2.105, 2.700, 2.702, 2.714, 2.714a, 2.717, 2.721, and 2.772(j) of the Commission's Regulations, all as amended, an Atomic Safety and Licensing Board is being established to preside over the following proceeding:

Connecticut Yankee Atomic Power Company

Haddam Neck Plant

This Board is being established pursuant to a notice of consideration of issuance of operating license amendments, proposed no significant hazards consideration determination, and opportunity for a hearing published in the Federal Register (65 Fed. Reg. 77,913, 77,915 (Dec. 13, 2000)). The proceeding involves petitions for intervention filed on January 10 and January 12, 2001, respectively, by Citizens Awareness Network and the Connecticut Department of Public Utility Controls challenging a license amendment request by Connecticut Yankee Atomic Power Company to add a license condition to the operating license for the Haddam Neck Plant. The amendment would approve the License Termination Plan (LTP), dated July 7, 2000, and allow the licensee to make changes to the approved LTP without prior Nuclear Regulatory Commission approval, provided criteria specified in the license condition are met.

The Board is comprised of the following administrative judges:

Ann Marshall Young, Chair, Atomic Safety and Licensing Board Panel, U.S. Nuclear Regulatory Commission, Washington, D.C. 20555-0001

Dr. Peter S. Lam, Atomic Safety and Licensing Board Panel, U.S. Nuclear Regulatory Commission, Washington, D.C. 20555-0001

Thomas D. Murphy, Atomic Safety and Licensing Board Panel, U.S. Nuclear Regulatory Commission, Washington, D.C. 20555-0001

All correspondence, documents, and other materials shall be filed with the administrative judges in accordance with 10 CFR 2.701.

Issued at Rockville, Maryland, this 31st day of January 2001.
G. Paul Bollwerk, III,
Chief Administrative Judge, Atomic Safety and Licensing Board Panel.

[FR Doc. 01-3023 Filed 2-5-01; 8:45 am]

BILLING CODE 7590-01-P